DEPARTMENT OF LABOR

Office of the Secretary

Job Corps: Preliminary Finding of No Significant Impact (FONSI) for the Solar Photovoltaic (PV) Project located at Westover Job Corp Center, 103 Johnson Drive, Chicopee, MA

AGENCY: Office of the Secretary, Department of Labor.

Recovery: This project will be wholly funded under the American Recovery and Reconstruction Act of 2009.

ACTION: Preliminary Finding of No Significant Impact (FONSI) for Solar PV Panel Installation to be located at the Westover Job Corp Center, 103 Johnson Drive, Chicopee, Massachusetts.

SUMMARY: Pursuant to the Council on Environmental Quality Regulations (40 CFR part 1500-08) implementing procedural provisions of the National Environmental Policy Act (NEPA), the Department of Labor, Office of the Secretary (OSEC) in accordance with 29 CFR 11.11(d), gives notice that an Environmental Assessment (EA) has been prepared for a proposed Solar PV Project to be located at the Westover Job Corp Center, 103 Johnson Drive, Chicopee, Massachusetts, and that the proposed plan for the construction of solar PV panels at the Westover Job Corps Center will have no significant environmental impact. This Preliminary Finding of No Significant Impact (FONSI) will be made available for public review and comment for a period of 30 days.

DATES: Comments must be submitted by October 1, 2009.

ADDRESSES: Any comment(s) are to be submitted to William A. Dakshaw, P.E., Division of Facilities and Asset Management, Department of Labor, 200 Constitution Avenue, NW., Room N-4460, Washington, DC 20210, (202) 693-2867 (this is not a toll-free number).

FOR FURTHER INFORMATION CONTACT: Copies of the EA are available to interested parties by contacting William A. Dakshaw, P.E., Division of Facilities and Asset Management, Department of Labor, 200 Constitution Avenue, NW., Room N-4460, Washington, DC 20210, (202) 693-2867 (this is not a toll-free number).

SUPPLEMENTARY INFORMATION: This EA summary addresses the proposed construction of approximately 1.5 acres of stationary solar photovoltaic (PV) panels to create a 150 to 200 kilowatt system connected to the closest electrical terminal at the Westover Job Corps Center. The solar panels will produce clean energy for the Westover Job Corps Center, demonstrate renewable energy capabilities to Job Corps Students and help the program meet Federal requirements in Executive Order 13423 for renewable energy production. This project is not expected to have a negative impact on population demographics, the surrounding area, environmental quality, or natural systems and heritage.

Based on the information gathered during the preparation of the EA, the construction of the Solar PV Project at Westover Job Corp Center, 103 Johnson Drive, Chicopee, Massachusetts will not create any significant adverse impacts on the environment.

Dated: August 25, 2009.
Lynn Intrepidi,
Interim National Director of Job Corps.

[FR Doc. E9-20969 Filed 8-31-09; 8:45 am]

BILLING CODE 4510-23-P